DEPARTMENT OF JUSTICE

[OMB Number 1121-0NEW]

Agency Information Collection Activities: Proposed New Information Collection Activity; Comment Request, Proposed Study Entitled “National Study of Interpersonal Violence Experienced by Young Adults”

AGENCY: National Institute of Justice, U.S. Department of Justice.

ACTION: 30-Day notice.

SUMMARY: The Department of Justice (DOJ), Office of Justice Programs, National Institute of Justice, is submitting the following information collection request to the Office of Management and Budget (OMB) for review and approval in accordance with the Paperwork Reduction Act of 1995.

DATES: The Department of Justice encourages public comment and will accept input until March 6, 2025

FOR FURTHER INFORMATION CONTACT: If you have additional comments, especially on the estimated public burden or associated response time, suggestions, or need a copy of the proposed information collection instrument with instructions or additional information, please contact Erica Howell, Social Science Research Analyst, Office on Violence and Victimization Prevention, by email at erica.howell@usdoj.gov or telephone at (202) 598-9431.

SUPPLEMENTARY INFORMATION: The proposed information collection was previously published in the Federal Register on October 28, 2024, 89 FR 855557, allowing a 60-day comment period. Written comments and suggestions from the public and affected agencies concerning the proposed collection of information are encouraged. Your comments should address one or more of the following four points:

—Evaluate whether the proposed collection of information is necessary for the proper performance of the functions of the National Institute of Justice, including whether the information will have practical utility.

—Evaluate the accuracy of the agency's estimate of the burden of the proposed collection of information, including the validity of the methodology and assumptions used.

—Evaluate whether and, if so, how the quality, utility, and clarity of the information to be collected can be enhanced.

—Minimize the burden of collecting information on those who are to respond, including through the use of appropriate automated, electronic, mechanical, or other technological collection techniques or other forms of information technology, e.g., permitting electronic submission of responses.

Overview of This Information Collection

1. Type of Information Collection: New survey.

2. The Title of the Form/Collection: “National Study of Interpersonal Violence Experienced by Young Adults.”

3. The agency form number, if any, and the applicable component of the Department sponsoring the collection: The applicable component within the U.S. Department of Justice is the National Institute of Justice.

4. Affected public who will be asked or required to respond, as well as a brief abstract: In the fiscal year (FY) 2023, the National Institute of Justice (NIJ) awarded Westat, a professional research services organization, along with their partners at New York University and the University of Cincinnati, to implement the “National Study of Interpersonal Violence Experienced by Young Adults” pilot (Jan. 1, 2024-December 31, 2025), which will inform the implementation of the full multi-year project expected to begin in FY2026.

The “National Study of Interpersonal Violence Experienced by Young Adults,” also known as the Long IVY study, is a critically needed, nationally representative, longitudinal panel survey of interpersonal violence among young adults (ages 18-24) who do and do not attend college. It will examine trajectories of risk and protective factors (at the individual, family, and community levels, including exposure to community violence) that predict victimization and perpetration of interpersonal violence and the recovery of those victimized. Interpersonal violence comprises (1) physical and psychological intimate partner violence, (2) nonconsensual sexual contact, and (3) stalking by current and former intimate partners and non-partners. The study design includes recruiting 17,000 young adults with a goal of retaining 10,000 in the final sample after five annual data collection waves (and interim micro assessments) across six years. The first survey will be administered in the fall of the school year after the participant's high school class graduates, and the final survey will be administered after they turn 23.

At a stage of the lifespan when we are most vulnerable to interpersonal violence, this study will address gaps in knowledge about the experiences of young adults not engaged in post-secondary education and the differences in experiences between groups. The innovative emphasis on identifying risk and protective factors over time will provide new evidence about how best to prevent interpersonal violence, for whom, which subpopulations are most in need of victimization services, and what factors accelerate healing and wellness for those who've been harmed.

The Study of Interpersonal Violence among Young Adults Pilot Project (the current study) will recruit a national probability sample of approximately 5,000 young adults with a goal of retaining 150-168 after a one-time data collection in response to the recruitment form. The form will be administered in the spring/summer of the recruitment year, 2025, and respondents must have either graduated high school or are no longer in high school. Respondents must be age 18 in order to be eligible for recruitment.

5. An estimate of the total number of respondents and the amount of time estimated for an average respondent to respond: The pilot study's estimated range of burden for respondents is expected to be between 8 and 14 minutes for completion. Based on instrument testing results, an average of 12 minutes per respondent is expected to be spent. The following factors were considered when creating the burden estimate: the estimated total number of respondents. NIJ estimates that approximately 168 respondents will fully complete the questionnaire, yielding a modified response rate of 55%.

6. An estimate of the total public burden associated with the pilot data collection: For the pilot study, the estimated public burden associated with this collection is 567 hours, which includes the time it takes each of the expected respondents to open all mailing materials and complete the questionnaire. It is estimated that each of the 168 respondents will take 12 minutes, on average, to complete the questionnaire. See the table below for calculations.

Activity | Number of respondents | Time per response (minutes) | Total burden (hours) | Hourly rate * | Monetized value of respondent time
Initial letter | 5,000 | 2 | 166.67 | $7.25 | $1,208.36
Reminder Postcard | 5,000 | 0.5 | 41.67 | 7.25 | 302.11
Second Reminder | 4,899 | 2 | 163.3 | 7.25 | 1,183.93
Final reminder | 4,849 | 2 | 161.63 | 7.25 | 1,171.82
Completed Survey | 168 | 12 | 33.6 | 7.25 | 243.60
Total Burden |  |  | 566.84 |  | 4,109.82
* The federal minimum wage as of December 2024 is $7.25 per the U.S. Department of Labor https://www.dol.gov/agencies/whd/minimum-wage/state.

If additional information is required, contact Darwin Arceo, Department Clearance Officer, United States Department of Justice, Justice Management Division, Policy and Planning Staff, Two Constitution Square, 145 N Street NE, Washington, DC 20530.

Dated: January 30, 2025.
Darwin Arceo,
Department Clearance Officer for PRA, U.S. Department of Justice.

[FR Doc. 2025-02195 Filed 2-3-25; 8:45 am]

BILLING CODE 4410-18-P